DEPARTMENT OF TRANSPORTATION

Maritime Administration (MARAD)

[Docket No. DOT-MARAD-2014-0103]

Request for Comments of a Previously Approved Information Collection: Automated Mutual-Assistance Vessel Rescue System (AMVER)

ACTION: Notice and request for comments.

SUMMARY: In compliance with the Paperwork Reduction Act of 1995 (44 U.S.C. 3501 et seq.), this notice announces that the Information Collection Request (ICR) abstracted below is being forwarded to the Office of Management and Budget (OMB) for review and comments. A Federal Register Notice with a 60-day comment period soliciting comments on the following information collection was published on April 23, 2014 (Federal Register 22756, Vol. 79, No. 78).

DATES: Comments must be submitted on or before August 14, 2014.

FOR FURTHER INFORMATION CONTACT: Russell Alan Krause, 202-366-1031, Division of Sealift Operations, W23-102-306, Maritime Administration, U.S. Department of Transportation, 1200 New Jersey Avenue SE., Washington, DC 20590.

SUPPLEMENTARY INFORMATION: Title: Automated Mutual-Assistance Vessel Rescue System (AMVER)

OMB Control Number: 2133-0025

Type of Request: Renewal of a Previously Approved Information Collection

Abstract: This collection of information is used to gather information regarding the location of U.S.-flag vessels and certain other U.S. citizen-owned vessels for the purpose of search and rescue in the saving of lives at sea and for the marshalling of ships for national defense and safety purposes. This collection consists of vessels that transmit their positions through various electronic means.

Affected Public: U.S.-flag and U.S. citizen-owned vessels that are required to respond under current statute and regulation.

Estimated Number of Respondents: 3,998

Estimated Number of Responses: 731,634

Annual Estimated Total Annual Burden Hours: 51,214

ADDRESSES: Send comments regarding the burden estimate, including suggestions for reducing the burden, to the Office of Management and Budget, Attention: Desk Officer for the Office of the Secretary of Transportation, 725 17th Street NW., Washington, DC 20503. Comments are invited on: whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Authority: The Paperwork Reduction Act of 1995; 44 U.S.C. Chapter 35, as amended; and 49 CFR 1:93.

Date: July 8, 2014.
Julie P. Agarwal,
Secretary, Maritime Administration.

[FR Doc. 2014-16596 Filed 7-14-14; 8:45 am]

BILLING CODE 4910-81-P